DEPARTMENT OF LABOR

Mine Safety and Health Administration

Petition for Modification

AGENCY: Mine Safety and Health Administration, Labor.

ACTION: Notice; correction.

SUMMARY: This notice amends a petition for modification published in the Federal Register on April 13, 2016, for the Marfork Coal Company, Inc., P.O. Box 457, Whitesville, West Virginia 25193.

FOR FURTHER INFORMATION CONTACT: Barbara Barron, Office of Standards, Regulations, and Variances at 202-693-9447 (Voice), barron.barbara@dol.gov (Email), or 202-693-9441 (Facsimile). [These are not toll-free numbers.]

Correction

This notice corrects the Mine and Mine I.D. No. in the notice. The Mine and Mine I.D. No. referenced in the April 13, 2016 Federal Register notice on page 21905, Docket Number M-2016-009-C, was listed as Marsh Fork Mine, MSHA I.D. No. 46-08551. The correct mine name is Marsh Fork Preparation Plant, and the correct Mine I.D. No. is 46-08374.

The petitioner requests a modification of the existing safety standard 30 CFR 77.214(a) to permit an alternative method for backfilling and reclamation of the abandoned portal area mine openings associated with the abandoned Marsh Fork Mine, MSHA I.D. No. 46-08551, using coal refuse as the backfill material. The petitioner specifically requests approval to backfill four abandoned mine openings associated with inactive Marsh Fork Mine, Cedar Grove coal seam portal area with coal refuse.

Sheila McConnell,
Director, Office of Standards, Regulations, and Variances.

[FR Doc. 2016-11434 Filed 5-13-16; 8:45 am]

BILLING CODE 4520-43-P